DEPARTMENT OF HEALTH AND HUMAN SERVICES

Centers for Disease Control and Prevention

Disease, Disability, and Injury Prevention and Control Special Emphasis Panel (SEP) PAR13-129; Amended Notice of Meeting

Notice is hereby given of a change in the name of the Disease, Disability, and Injury Prevention and Control Special Emphasis Panel (SEP) PAR13-129; February 26, 2019, 12:00 p.m.-4:00 p.m., EST which was published in the Federal Register on December 21, 2018 Volume 83, Number 245, page 65675.

The meeting is being amended to change the funding opportunity announcement to PAR18-812.

The meeting is closed to the public.

FOR FURTHER INFORMATION CONTACT: Nina Turner, Ph.D., Scientific Review Officer, Office of Extramural Programs, 1095 Willowdale Road, Morgantown, West Virginia 26506, Telephone: (304) 285-5976; Email: nxt2@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-01206 Filed 2-5-19; 8:45 am]

BILLING CODE 4163-18-P